DEPARTMENT OF JUSTICE

Notice of Lodging of Consent Decree Under the Comprehensive Environmental Response, Compensation and Liability Act

In accordance with Departmental policy, 28 CFR 50.7 and section 122(d)(2) of the Comprehensive Environmental Response, Compensation and Liability Act (“CERCLA”), 42 U.S.C. 9622(d)(2), notice is hereby given that on April 29, 2008 a proposed consent decree in United States v. Teledyne Technologies Incorporated, Civil Action No. 3:08-cv-1085, was lodged with the United States District Court for the Northern District of Ohio.

In this action, brought against Teledyne Technologies Incorporated (“Teledyne”) pursuant to Section 107 of CERCLA, 42 U.S.C. 9607, the United States sought the recovery of response costs incurred by the United States in connection with actual and threatened releases of hazardous substances at and from the former Naval Weapons Industrial Reserve Plant—Toledo (“Facility”), a facility located in Toledo, Ohio that was formerly owned by the United States and that was and continues to be operated by Teledyne. The consent decree resolves claims of the United States against Teledyne and TDY Industries, Inc. (a predecessor for whom Teledyne has assumed liability) pursuant to sections 106 and 107(a) of CERCLA, 42 U.S.C. 9606 and 9607(a), for the recovery of Navy response costs and the work to be performed under the consent decree at the Facility. The consent decree requires Teledyne to pay the United States $525,000 for past response costs incurred by the Navy in connection with the Site. Under the consent decree, Teledyne is also obligated to perform further response actions necessary to achieve regulatory closure by obtaining an Ohio Covenant Not To Sue for the Facility by the State of Ohio pursuant to Chapter 3746 of the Ohio Revised Code, and implementing regulation, otherwise known as the Ohio Voluntary Action Program (“VAP”), or Brownfield Program, in the event that the Toledo-Lucas County Port Authority, the current owner of the Facility, does not achieve regulatory closure by obtaining an Ohio Covenant Not to Sue using a Federal grant, pursuant to the authority of FY 2006 Appropriations Act (Pub. L. 109-148), administered by the Department of Defense's Office of Economic Adjustment.

The Department of Justice will receive, for a period of thirty (30) days from the date of this publication, comments relating to the consent decree. Comments should be addressed to the Assistant Attorney General, Environment and Natural Resources Division, and either emailed to pubcomment-ees@usdoj.gov or mailed to P.O. Box 7611, United States Department of Justice, Washington, DC 20044-7611, and should refer to United States v. Teledyne Technologies Incorporated, D.J. Ref. 90-11-2-08320.

The consent decree may be examined at the Office of the United States Attorney, Four Seagate, Suite 308, Toledo, Ohio 43604. During the public comment period, the consent decree may also be examined on the following Justice Department Web site, http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $14.50 (25 cents per page reproduction cost) payable to the U.S. Treasury or, if by e-mail or fax, forward a check in that amount to the Consent Decree Library at the stated address.

William D. Brighton,
Assistant Chief, Environmental Enforcement Section, Environment and Natural Resources Division.

[FR Doc. E8-9893 Filed 5-5-08; 8:45 am]

BILLING CODE 4410-15-P